DEPARTMENT OF ENERGY

Western Area Power Administration

Pick-Sloan Missouri Basin Program—Eastern Division—Rate Order No. WAPA-217

AGENCY: Western Area Power Administration, DOE.

ACTION: Notice of proposed extension of transmission and ancillary services formula rates.

SUMMARY: The Upper Great Plains (UGP) region of the Western Area Power Administration (WAPA or Western) proposes to extend existing formula rates (without any changes) for the Pick-Sloan Missouri Basin Program—Eastern Division (P-SMBP—ED) through September 30, 2030. The existing rates UGP proposes to extend are: WAUGP-ATRR (Annual Transmission Revenue Requirement), WAUGP-AS1 (Scheduling, System Control, and Dispatch Service), WAUW-AS3 (Regulation and Frequency Response Service), WAUW-AS4 (Energy Imbalance Service), WAUW-AS5 (Operating Reserve-Spinning Reserve Service), WAUW-AS6 (Operating Reserve-Supplemental Reserve Service), and WAUW-AS7 (Generator Imbalance Service). The existing rates expire on September 30, 2025.

DATES: A consultation and comment period will begin August 26, 2024 and end September 25, 2024. UGP will accept written comments at any time during the consultation and comment period.

ADDRESSES: Written comments and requests to be informed of Federal Energy Regulatory Commission (FERC) actions concerning the proposed extension submitted by WAPA to FERC for approval should be sent to: Lloyd Linke, Regional Manager, Upper Great Plains Region, Western Area Power Administration, 2900 4th Avenue North, 6th Floor, Billings, MT 59101-1266, or email: UGPTRates@wapa.gov. UGP will post information about the proposed formula rate extension and written comments received to its website at: www.wapa.gov/ugp/ugp-rates.

FOR FURTHER INFORMATION CONTACT: Linda Cady-Hoffman, Rates Manager, Upper Great Plains Region, Western Area Power Administration, 2900 4th Avenue North, 6th Floor, Billings, MT 59101-1266, (406) 255-2920 or email: UGPTRates@wapa.gov.

SUPPLEMENTARY INFORMATION: On September 28, 2020, FERC approved and confirmed Western Area Power Administration—Upper Great Plains Region's transmission and ancillary services formula rates under Rate Schedules WAUGP-ATRR, WAUGP-AS1, WAUW-AS3, WAUW-AS4, WAUW-AS5, WAUW-AS6, and WAUW-AS7 under Rate Order No. WAPA-188 for a five-year period through September 30, 2025.¹

¹ Order Confirming and Approving Rate Schedules on a Final Basis, FERC Docket Nos. EF20-3-000 and EF20-3-001.

In accordance with 10 CFR 903.23(a),² UGP is proposing to extend the existing formula rates under Rate Schedules WAUGP-ATRR, WAUGP-AS1, WAUW-AS3, WAUW-AS4, WAUW-AS5, WAUW-AS6, and WAUW-AS7 for the period of October 1, 2025, through September 30, 2030. The existing formula rates are viewable online at the following locations: (1) UGP's OASIS at: https://www.oasis.oati.com/wapa/index.html; (2) on UGP's Rates website at: www.wapa.gov/about-wapa/regions/ugp/ugp-rates; and (3) the “Western Area Power Administration UGP Information” link on SPP's Member Related Postings website at: opsportal.spp.org/OASIS/Directory/Member%20Related%20Postings. The existing formula rates provide sufficient revenue to pay all annual costs, including interest expense, and repay investment within the allowable period consistent with the cost recovery criteria set forth in Department of Energy (DOE) Order RA 6120.2.

² 50 FR 37835 (Sept. 18, 1985) and 84 FR 5347 (Feb. 21, 2019).

On April 28, 2023, WAPA published a Federal Register notice titled “Recommendation for Western Area Power Administration's Rocky Mountain Region and Colorado River Storage Project Management Center to Pursue Final Negotiations Regarding Membership in the Southwest Power Pool Regional Transmission Organization and for the Upper Great Plains Region to Expand Its Participation”.³ On September 8, 2023, WAPA's Administrator authorized staff to move forward with the recommendation to pursue final negotiations for membership and expanded participation in the Southwest Power Pool Regional Transmission Organization (SPP RTO). UGP's expanded participation in the SPP RTO will have impacts on the above rate methodologies. Extending the existing formula rates for five years allows UGP time to evaluate rate methodologies to conduct a major rate adjustment process to put new formula rates in place that would become effective upon UGP's expanded participation in the SPP RTO (currently planned on April 1, 2026).

³ 88 FR 26298 (Apr. 28, 2023).

In accordance with 10 CFR 903.23(a), UGP has determined that it is not necessary to hold public information or public comment forums for this rate action but is initiating a 30-day consultation and comment period to give the public an opportunity to comment on the proposed extension. UGP will review and consider all timely public comments at the conclusion of the consultation and comment period and adjust the proposal as appropriate.

Legal Authority

By Delegation Order No. S1-DEL-RATES-2016, effective November 19, 2016, the Secretary of Energy delegated: (1) the authority to develop power and transmission rates to WAPA's Administrator; (2) the authority to confirm, approve, and place such rates into effect on an interim basis to the Deputy Secretary of Energy; and (3) the authority to confirm, approve, and place into effect on a final basis, or to remand or disapprove such rates to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator.

Ratemaking Procedure Requirements

Environmental Compliance

Categorical exclusion determinations were previously issued for these rates under the following categorical exclusion listed in appendix B to subpart D of 10 CFR part 1021: B4.3 (Electric power marketing rate changes).⁴ Those categorical exclusion determinations are also applicable to this rate action. Copies of the categorical exclusion determinations are available on WAPA's website at: www.wapa.gov/about-wapa/regions/ugp/environment/.

⁴ The determination was done in compliance with the National Environmental Policy Act (NEPA) of 1969, as amended, 42 U.S.C. 4321-4347, the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on August 19, 2024, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 21, 2024.
Treena V. Garrett,
Federal Register Liaison Officer, U.S. Department of Energy.

[FR Doc. 2024-19080 Filed 8-23-24; 8:45 am]

BILLING CODE 6450-01-P